DEPARTMENT OF COMMERCE

National Oceanic and Atmospheric Administration

Agency Information Collection Activities; Submission to the Office of Management and Budget (OMB) for Review and Approval; Comment Request; Papahānaumokuākea Marine National Monument & University of Hawaii Research Internship Program

AGENCY: National Oceanic & Atmospheric Administration (NOAA), Commerce.

ACTION: Notice of information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 7, 2021.

ADDRESSES: Interested persons are invited to submit written comments to Adrienne Thomas, NOAA PRA Officer, at Adrienne.thomas@noaa.gov. Please reference OMB Control Number 0648-0719 in the subject line of your comments. Do not submit Confidential Business Information or otherwise sensitive or protected information.

FOR FURTHER INFORMATION CONTACT: Requests for additional information or specific questions related to collection activities should be directed to Brian Hauk, NOS/ONMS/PMNM, 1845 Wasp Blvd., Building 176, Honolulu, HI 96818, Office: 808-725-5835; Cell: 808-232-6379; Main: 808-725-5800; Fax: 808-455-3093, or Email: brian.hauk@noaa.gov.

SUPPLEMENTARY INFORMATION:

I. Abstract

This is a request for extension of a currently approved information collection.

The National Oceanic and Atmospheric Administration's (NOAA) National Ocean Service's Office of National Marine Sanctuaries (ONMS)/Papahānaumokuākea Marine National Monument (PMNM) is sponsoring this collection.

On June 15, 2006, President George W. Bush established the Papahānaumokuākea Marine National Monument (PMNM) by Presidential Proclamation 8031 under the authority of the American Antiquities Act, 16 CFR 431, to ensure the comprehensive, strong, and lasting protection of the coral reef ecosystems and related resources of the Northwestern Hawaiian Islands (NWHI). At a time when ocean resources around the world are in major decline, the designation of PMNM enabled nearly 140,000 square miles of U.S. land and waters of the region to receive the highest form of environmental protection in the country and created one of the largest marine conservation areas in the world.

As part of PMNM's mission to characterize its natural resources, PMNM conducts annual coral reef monitoring expeditions to the NWHI. Additionally, as part of PMNM's education mission, PMNM is committed to providing educational opportunities for students and educators. In order to accomplish these two missions, PMNM has partnered with the University of Hawaii to offer research internships. Each year, a limited number of research internships will be awarded to outstanding undergraduate students in the marine sciences at the University of Hawaii. These internships consist of training students in SCUBA surveys of coral reef fauna, a research expedition to PMNM aboard a NOAA or contract ship, and the development of an independent research project with data from the expedition. Due to the fact that space is very limited for these internships, only a small number of internships can be offered each year. This request collects information from internship applicants in order to allow PMNM staff to select candidates which are best suited for its research internships.

The collection of information will consist of an electronic application package, which will be solicited annually from undergraduate students applying for the internship. The application package will include (1) an application form with information on academic background and professional experiences, (2) reference forms by two educational or professional references, and (3) a support letter from one academic professor or advisor.

All gathered information would be used only by staff of PMNM for the purpose of selecting interns, and will not be shared with any other party. None of the information collected will be disseminated to the public.

II. Method of Collection

The proposed collection of new information will consist of electronic forms which will be submitted via email.

III. Data

OMB Control Number: 0648-0719.

Form Number(s): None.

Type of Review: Regular submission (extension of a current information collection).

Affected Public: Individuals or households; Business or other for-profit organizations.

Estimated Number of Respondents: 100.

Estimated Time per Response: Scholarship application: 1 hour; Reference forms: 30 minutes; Support Letter: 30 minutes.

Estimated Total Annual Burden Hours: 62.5 hours.

Estimated Total Annual Cost to Public: None.

Respondent's Obligation: Voluntary.

Legal Authority: None.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-04702 Filed 3-5-21; 8:45 am]

BILLING CODE 3510-JE-P